DEPARTMENT OF ENERGY

Federal Energy Regulatory Commission

Combined Notice of Filings # 1

Take notice that the Commission received the following electric rate filings:

Docket Numbers: ER22-1837-004.

Applicants: Florida Power & Light Company.

Description: Compliance filing: FPL Settlement Agreement Compliance Filing to be effective 7/13/2022.

Filed Date: 9/5/23.

Accession Number: 20230905-5163.

Comment Date: 5 p.m. ET 9/26/23.

Docket Numbers: ER22-2110-004.

Applicants: PJM Interconnection, L.L.C.

Description: Compliance filing: Compliance Filing Notifying Commission of Tariff Part VIII Effective Date to be effective 10/5/2023.

Filed Date: 9/5/23.

Accession Number: 20230905-5145.

Comment Date: 5 p.m. ET 9/26/23.

Docket Numbers: ER23-1847-001.

Applicants: The Potomac Edison Company, PJM Interconnection, L.L.C.

Description: Refund Report: The Potomac Edison Company submits tariff filing per 35.19a(b): Potomac Edison submits Refund Report in Docket No. ER23-1847 to be effective N/A.

Filed Date: 9/5/23.

Accession Number: 20230905-5134.

Comment Date: 5 p.m. ET 9/26/23.

Docket Numbers: ER23-2415-001.

Applicants: PJM Interconnection, L.L.C.

Description: Tariff Amendment: Amendment to Designated Entity Agreement, SA No. 7000 in ER23-2415 to be effective 6/16/2023.

Filed Date: 9/5/23.

Accession Number: 20230905-5147.

Comment Date: 5 p.m. ET 9/26/23.

Docket Numbers: ER23-2416-001.

Applicants: PJM Interconnection, L.L.C.

Description: Tariff Amendment: Amendment to Designated Entity Agreement, SA No. 7001 in ER23-2416 to be effective 6/16/2023.

Filed Date: 9/5/23.

Accession Number: 20230905-5146.

Comment Date: 5 p.m. ET 9/26/23.

Docket Numbers: ER23-2769-000.

Applicants: Midcontinent Independent System Operator, Inc., Consumers Energy Company, Michigan Electric Transmission Company, LLC.

Description: § 205(d) Rate Filing: Midcontinent Independent System Operator, Inc. submits tariff filing per 35.13(a)(2)(iii: 2023-09-06_SA 3536 Termination of METC-CE TSA to be effective 9/7/2023.

Filed Date: 9/6/23.

Accession Number: 20230906-5061.

Comment Date: 5 p.m. ET 9/27/23.

Docket Numbers: ER23-2770-000.

Applicants: Midcontinent Independent System Operator, Inc., Consumers Energy Company, Michigan Electric Transmission Company, LLC.

Description: § 205(d) Rate Filing: Midcontinent Independent System Operator, Inc. submits tariff filing per 35.13(a)(2)(iii: 2023-09-06_SA 3315 Termination of METC-CE TSA to be effective 4/18/2023.

Filed Date: 9/6/23.

Accession Number: 20230906-5063.

Comment Date: 5 p.m. ET 9/27/23.

Docket Numbers: ER23-2771-000.

Applicants: PJM Interconnection, L.L.C.

Description: Tariff Amendment: Notice of Cancellation of WMPA, SA No. 6364; Queue No. AG2-374 re: breach to be effective 11/6/2023.

Filed Date: 9/6/23.

Accession Number: 20230906-5068.

Comment Date: 5 p.m. ET 9/27/23.

Docket Numbers: ER23-2772-000.

Applicants: PJM Interconnection, L.L.C.

Description: § 205(d) Rate Filing: Original NSA, Service Agreement No. 7083; Queue No. AD1-155 to be effective 11/6/2023.

Filed Date: 9/6/23.

Accession Number: 20230906-5081.

Comment Date: 5 p.m. ET 9/27/23.

The filings are accessible in the Commission's eLibrary system (https://elibrary.ferc.gov/idmws/search/fercgensearch.asp) by querying the docket number.

Any person desiring to intervene, to protest, or to answer a complaint in any of the above proceedings must file in accordance with Rules 211, 214, or 206 of the Commission's Regulations (18 CFR 385.211, 385.214, or 385.206) on or before 5:00 p.m. Eastern time on the specified comment date. Protests may be considered, but intervention is necessary to become a party to the proceeding. eFiling is encouraged. More detailed information relating to filing requirements, interventions, protests, service, and qualifying facilities filings can be found at: http://www.ferc.gov/docs-filing/efiling/filing-req.pdf. For other information, call (866) 208-3676 (toll free). For TTY, call (202) 502-8659.

For other information, call (866) 208-3676 (toll free). For TTY, call (202) 502-8659. The Commission's Office of Public Participation (OPP) supports meaningful public engagement and participation in Commission proceedings. OPP can help members of the public, including landowners, environmental justice communities, Tribal members and others, access publicly available information and navigate Commission processes. For public inquiries and assistance with making filings such as interventions, comments, or requests for rehearing, the public is encouraged to contact OPP at (202) 502-6595 or OPP@ferc.gov.

Dated: September 6, 2023.
Debbie-Anne A. Reese,
Deputy Secretary.

[FR Doc. 2023-19637 Filed 9-11-23; 8:45 am]

BILLING CODE 6717-01-P